DEPARTMENT OF STATE

[Public Notice: 12364]

60-Day Notice of Proposed Information Collection: Border Crossing Survey—U.S. Embassy Jerusalem Reporting Form

ACTION: Notice of request for public comment.

SUMMARY: The Department of State is seeking Office of Management and Budget (OMB) approval for the information collection described below. In accordance with the Paperwork Reduction Act of 1995, we are requesting comments on this collection from all interested individuals and organizations. The purpose of this notice is to allow 60 days for public comment preceding submission of the collection to OMB.

DATES: The Department will accept comments from the public up to June 4, 2024.

ADDRESSES: You may submit comments by any of the following methods:

• Web: Persons with access to the internet may comment on this notice by going to www.Regulations.gov. You can search for the document by entering “Docket Number: DOS-2024-0010” in the Search field. Then click the “Comment Now” button and complete the comment form.

• Email: OCS-Logistics@state.gov.

• Regular Mail: Send written comments to U.S. Department of State, CA/OCS, SA-17, 10th Floor, Washington, DC 20522-1710.

You must include the DS form number (if applicable), information collection title, and the OMB control number in any correspondence.

FOR FURTHER INFORMATION CONTACT: Direct requests for additional information regarding the collection listed in this notice, including requests for copies of the proposed collection instrument and supporting documents, to Thales Dus at CA-OCS-Logistics@state.gov or 202-485-6020.

SUPPLEMENTARY INFORMATION:

• Title of Information Collection: U.S. Embassy Jerusalem Incident Reporting Form.

• OMB Control Number: 1405-0260.

• Type of Request: Extension of a Currently Approved Collection.

• Originating Office: CA/OCS.

• Form Number: None.

• Respondents: U.S. Citizens.

• Estimated Number of Respondents: 3293.

• Estimated Number of Responses: 3,293.

• Average Time per Response: 20 minutes per response.

• Total Estimated Burden Time: 1,098 hours.

• Frequency: On occasion.

• Obligation to Respond: Voluntary.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

The Government of Israel (GOI) and the United States signed a Memorandum of Understanding (MOU) on Extension of Reciprocal Privileges and the Visa Waiver Program (VWP) in July 2023. This collection is used to monitor the GOI's commitment to provide non-discriminatory treatment of all U.S. citizens travelling through Israeli controlled ports of entry and checkpoints in Israel, the West Bank, and Gaza and to be able to fully assess whether Israel is meeting the VWP reciprocity requirement as laid out in the MOU. This online survey is to allow U.S. citizens to easily and voluntarily report their experiences seeking entry into Israel, including instances of discrimination, to the U.S. Embassy in Jerusalem. U.S. citizens complete the form electronically, allowing for immediate and automatic data collection of form responses.

Methodology

This information will be collected via Microsoft survey.

Angela M. Kerwin,
Deputy Assistant Secretary, Bureau of Consular Affairs/Office of Overseas Citizen Services, Department of State.

[FR Doc. 2024-07232 Filed 4-4-24; 8:45 am]

BILLING CODE 4710-06-P